DEPARTMENT OF TRANSPORTATION

Federal Aviation Administration

14 CFR Part 71

[Airspace Docket No. 01-ASO-9]

Establishment of Class E2 Airspace; Greenwood, MS

AGENCY: Federal Aviation Administration (FAA), DOT.

ACTION: Final rule.

SUMMARY: This action establishes Class E2 airspace at Greenwood, MS, for the Greenwood-Leflore Airport. The Greenwood Airport Traffic Control Tower is a part time facility. When the control tower is closed, Memphis Air Route Traffic Control Center (ARTCC) provides approach control service. This requires establishment of Class E2 surface area airspace.

EFFECTIVE DATE: July 31, 2001.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

The Greenwood-Leflore Airport lies within Class D airspace. The Greenwood Airport Traffic Control Tower is a part time facility. When the control tower closes, Memphis ARTCC provides approach control service for the Greenwood-Leflore Airport. Since the Memphis ARTCC provides approach control service and the proper classification of airspace to accommodate aircraft conducting standard instrument approach procedures is not available, flight safety interests may be affected. Accordingly, immediate corrective action is taken herein, in the interest of flight safety, to establish Class E2 airspace in the vicinity of Greenwood-Leflore Airport. Therefore, I find that notice and public procedure under 5 U.S.C. 553(b) are impracticable and contrary to the public interest. Designations for Class E are published in FAA Order 7400.9H, dated September 1, 2000, and effective September 16, 2000, which is incorporated by reference in 14 CFR part 71.1. The Class E designations listed in this document will be published subsequently in the Order.

The Rule

This amendment to Part 71 of the Federal Aviation Regulations (14 CFR Part 71) establishes Class E2 airspace at Greenwood, MS.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List Subjects in 14 CFR Part 71

Airspace, Incorporation by Reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 6002 Class E Airspace Designated as Surface Areas.

* * * * *

ASO MS E2 Greenwood, MS [New]

Greenwood—Leflore Airport, MS

(Lat. 33°29′44″N, long. 90°05′03″W)

Within a 4-mile radius of Greenwood—Leflore Airport. This Class E airspace area is effective during the specific days and times established in advance by a Notice to Airmen. The effective date and time will thereafter be continuously published in the Airport/Facility Directory.

* * * * *

Issued in College Park, Georgia, on July 19, 2001.
Richard Biscomb,
Acting Manager, Air Traffic Division, Southern Region.

[FR Doc. 01-19044 Filed 7-30-01; 8:45 am]

BILLING CODE 4910-13-M